FEDERAL RETIREMENT THRIFT INVESTMENT BOARD

Sunshine Act; Notice of Meeting

TIME AND DATE: Parts open to the public begin at 10:00 a.m. March 23, 2015.

PLACE: 10th Floor Board Meeting Room, 77 K Street NE., Washington, DC 20002.

STATUS: Parts will be open to the public and parts closed to the public.

MATTERS TO BE CONSIDERED:

Parts Closed to the Public

1. Procurement

Parts Open to the Public

2. Approval of the Minutes of the February 23, 2015 Board Member Meeting.

3. Monthly Reports

a. Monthly Participant Activity Report

b. Monthly Investment Policy Review

c. Legislative Report

4. Quarterly Metrics Report

5. OCFO Report

CONTACT PERSON FOR MORE INFORMATION: Kimberly Weaver, Director, Office of External Affairs, (202) 942-1640.

Dated: March 12, 2015.
James Petrick,
General Counsel, Federal Retirement Thrift Investment Board.

[FR Doc. 2015-06044 Filed 3-12-15; 11:15 am]

BILLING CODE 6760-01-P